DEPARTMENT OF STATE

[Public Notice 6860]

Termination of Ineligible Status and Statutory Debarment Pursuant to Section 38(g)(4) of the Arms Export Control Act and Section 127.7 of the International Traffic in Arms Regulations for Earlene Christenson (a.k.a. Earlene Larson Christenson; Earlene Larson)

ACTION: Notice.

SUMMARY: Notice is hereby given that the Department of State has terminated the ineligible status and statutory debarment of Earlene Christenson (a.k.a. Earlene Larson Christenson; Earlene Larson), pursuant to section 38(g)(4) of the Arms Export Control Act (AECA) (22 U.S.C. 2778(g)(4)) and section 127.7 of the International Traffic in Arms Regulations (ITAR).

DATES: Effective Date: January 7, 2010.

FOR FURTHER INFORMATION CONTACT: Daniel J. Buzby, Acting Director, Office of Defense Trade Controls Compliance, Directorate of Defense Trade Controls, Bureau of Political-Military Affairs, Department of State (202) 663-2812.

SUPPLEMENTARY INFORMATION: Section 38(g)(4) of the AECA and section 127.7 of the ITAR prohibit the issuance of export licenses or other approvals to a person if that person, or any party to the export, has been convicted of violating the AECA and certain other U.S. criminal statutes enumerated at section 38(g)(1) of the AECA and section 120.27 of the ITAR. Such individuals are considered ineligible in accordance with section 120.1 of the ITAR. Also, a person convicted of violating the AECA is subject to statutory debarment under section 127.7 of the ITAR.

In September 2003, Earlene Christenson was statutorily debarred pursuant to section 127.7 of the ITAR. Ms. Christenson was thus prohibited from participating directly or indirectly in exports of defense articles and defense services. Notice of debarment was published in the Federal Register (68 FR 52436, September 3, 2003).

In accordance with section 38(g)(4) of the AECA and section 127.7 of the ITAR, the statutory debarment may be terminated after consultation with other appropriate U.S. agencies, after a thorough review of the circumstances surrounding the conviction, and a finding that appropriate steps have been taken to mitigate any law enforcement concerns. Ms. Christenson, even after reinstatement, will not be eligible to participate directly or indirectly in any activities regulated under the ITAR without prior approval from the Department of State. The Department of State has reviewed the circumstances and consulted with other appropriate U.S. agencies, and has determined that efforts necessary to prevent future ITAR violations have been taken. Therefore, in accordance with section 38(g)(4) of the AECA and section 127.7 of the ITAR, the statutory debarment is rescinded, effective January 7, 2010.

Dated: July 27, 2009.
Andrew J. Shapiro,
Assistant Secretary, Bureau of Political-Military Affairs, Department of State.

[FR Doc. 2010-23 Filed 1-6-10; 8:45 am]

BILLING CODE 4710-25-P